DEPARTMENT OF TRANSPORTATION

Federal Aviation Administration

Fourth Meeting, Special Committee 212, Helicopter Terrain Awareness and Warning System (HTWAS)

AGENCY: Federal Aviation Administration (FAA), DOT.

ACTION: Notice of RTCA Special Committee 212, Helicopter Terrain Awareness and Warning System (HTWAS).

SUMMARY: The FAA is issuing this notice to advise the public of RTCA Special Committee 212, Helicopter Terrain Awareness and Warning System (HTWAS).

DATES: The meeting will be held December 5, 2007, from 9 a.m.-12 p.m.

ADDRESSES: The meeting will be held RTCA, Inc., 1828 L Street, NW., Suite 805, Washington, DC 20036.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 212 meeting. The agenda will include:

• December 5:

• Opening Plenary Session (Welcome, Introductions, and Administrative Remarks, Agenda Overview).

• Resolve comments ont he draft HTAWS MOPS document.

• Consider and approve the draft HTAWS MOPS document for final review and comment (FRAC).

• Closing Plenary Session (Other Business, Establish Agenda, Date and Place of Next Meeting, Adjourn).

Attendance is open to the interested public but limited to space availability. Pre-Registration for this meeting is not required for attendance but is desired and can be done through the RTCA secretariat. With the approval of the chairmen, members of the public may present oral statements at the meeting. Persons wishing to present statements or obtain information should contact the person listed in FOR FURTHER INFORMATION CONTACT Section. Members of the public may present a written statement to the committee at any time.

Issued in Washington, DC on November 8, 2007.
Francisco Estrada C.,
RTCA Advisory Committee.

[FR Doc. 07-5723 Filed 11-16-07; 8:45 am]

BILLING CODE 4910-13-M